DEPARTMENT OF LABOR

Employment and Training Administration

[TA-W-64,896]

Logistics Services Incorporated, Dayton, OH; Notice of Termination of Investigation

Pursuant to Section 221 of the Trade Act of 1974, as amended, an investigation was initiated on January 14, 2009 in response to a worker petition filed by a Union official on behalf of workers of Logistics Services Incorporated, Dayton, Ohio.

The petitioning group of workers is covered by an earlier petition (TA-W-64,835) filed on December 26, 2008 that is the subject of an ongoing investigation for which a determination has not yet been issued. Further investigation in this case would duplicate efforts and serve no purpose; therefore the investigation under this petition has been terminated.

Signed at Washington, DC, this 15th day of January 2009.
Elliott S. Kushner,
Certifying Officer, Division of Trade Adjustment Assistance.

[FR Doc. E9-2127 Filed 1-30-09; 8:45 am]

BILLING CODE 4510-FN-P